DEPARTMENT OF HEALTH AND HUMAN SERVICES

Food and Drug Administration

[Docket No. FDA-2008-N-0043]

[FDA No. 225-08-6000]

Memorandum of Understanding With the U.S. Army Medical Research Institute of Infectious Diseases

AGENCY: Food and Drug Administration, HHS.

ACTION: Notice.

SUMMARY: SUMMARY: The Food and Drug Administration (FDA) is providing notice of a memorandum of understanding (MOU) with the U.S. Army Research Institute of Infectious Diseases (USAMRIID). This MOU identifies the terms of collaboration between FDA and USAMRIID in the area of emergency preparedness. Specifically this MOU provides for the sharing of information and collaborative activities related to biological threat agents and diagnostics to detect such biological threat agents in order to assist both parties in more efficiently preparing for and responding to emergencies in which such diagnostic tests may be used.

DATES: The agreement became effective September 5, 2008.

FOR FURTHER INFORMATION CONTACT:

Nancy J. Pluhowski, Senior Regulatory Health Scientist, Center for Devices and Radiological Health (HFZ-001), Food and Drug Administration, 9200 Corporate Blvd., Rockville, MD 20850, 240-276-3816, or

Dan Coffman, Business Plans and Programs Office, USAMRIID, 1425 Porter St., Fort Detrick, MD 21702-5011, 301-619-6886.

SUPPLEMENTARY INFORMATION: In accordance with 21 CFR 20.108(c), which states that all written agreements and MOUs between FDA and others shall be published in the Federal Register, the agency is publishing notice of this MOU.

Dated: October 15, 2008.
Jeffrey Shuren,
Associate Commissioner for Policy and Planning.

[FR Doc. E8-25740 Filed 10-29-08; 8:45 am]

BILLING CODE 4160-01-C